NATIONAL ARCHIVES AND RECORDS ADMINISTRATION

[NARA-2025-015]

Senior Executive Service (SES) Performance Review Board; Members

AGENCY: National Archives and Records Administration.

ACTION: Notice; SES Performance Review Board.

SUMMARY: Notice is hereby given of the appointment of members of the National Archives and Records Administration (NARA) Performance Review Board (PRB). The members of the PRB for the National Archives and Records Administration are: William J. Bosanko, Deputy Archivist; Valorie F. Findlater, Chief Management and Administration; and Ovnelle Millwood, acting Chief Human Capital Officer. These appointments supersede all previous appointments.

DATES: This appointment is effective on January 29, 2025.

FOR FURTHER INFORMATION CONTACT: Ovnelle Millwood, Office of Human Capital, National Archives and Records Administration, 8601 Adelphi Road, College Park, Maryland 20740, (301) 837-3467.

SUPPLEMENTARY INFORMATION: The authority for this notice is 5 U.S.C. 4314(c), which also requires each agency to establish, in accordance with regulations prescribed by the Office of Personnel Management, one or more SES Performance Review Boards. The Board shall review the initial appraisal of a senior executive's performance by the supervisor and recommend final action to the appointing authority regarding matters related to senior executive performance.

Colleen J. Shogan,
Archivist of the United States.

[FR Doc. 2025-01897 Filed 1-28-25; 8:45 am]

BILLING CODE 7515-01-P